DEPARTMENT OF ENERGY

Federal Energy Regulatory Commission

[Docket No. AD24-7-000]

Federal and State Current Issues Collaborative; Notice Postponing Meeting

On March 21, 2024, the Federal Energy Regulatory Commission (Commission), pursuant to 16 U.S.C. 824h(b), established a Federal and State Current Issues Collaborative (Collaborative) to provide a venue for Federal and State regulators to share perspectives, increase understanding, and, where appropriate, identify potential solutions regarding challenges and coordination on matters that implicate both State and Federal regulatory jurisdiction.¹

¹ Fed. and State Current Issues Collaborative, 186 FERC ¶ 61,189 (2024).

The public meeting of the Collaborative set for November 12, 2025, in Seattle, Washington,² is postponed to February 2026 during the National Association of Regulatory Utility Commissioners' Winter Policy Summit in Washington, DC.

² Fed. and State Current Issues Collaborative, Notice Announcing Meeting, Docket No. AD24-7-000 (issued Oct. 6, 2025).

In light of the lapse in Federal appropriations, the Commission limited travel. The Commission is open and operational.

More information about the Collaborative is available here: https://www.ferc.gov/federal-state-current-issues-collaborative. For questions related to the Collaborative, please contact: Robert Thormeyer, 202-502-8694, robert.thormeyer@ferc.gov; Joseph Popely, 202-502-8513, joseph.popely@ferc.gov; or Kimberly Duffley, 202-898-1305, kduffley@naruc.org.

Dated: November 5, 2025.
Debbie-Anne A. Reese,
Secretary.

[FR Doc. 2025-21357 Filed 11-26-25; 8:45 am]

BILLING CODE 6717-01-P